DEPARTMENT OF HOMELAND SECURITY

Transportation Security Administration

[Docket No. TSA-2001-11120]

Intent To Request Renewal From OMB of One Current Public Collection of Information: Imposition and Collection of Passenger Civil Aviation Security Service Fees

AGENCY: Transportation Security Administration, DHS.

ACTION: 60-day Notice.

SUMMARY: The Transportation Security Administration (TSA) invites public comment on one currently approved Information Collection Request (ICR), Office of Management and Budget (OMB) control number 1652-0001, abstracted below that we will submit to OMB for renewal in compliance with the Paperwork Reduction Act. The ICR describes the nature of the information collection and its expected burden. The collection involves air carriers maintaining an accounting system to account for the passenger civil aviation security service fees collected and reporting this information to TSA on a quarterly basis, as well as retaining the data used for these reports for a three-year rolling period.

DATES: Send your comments by October 17, 2014.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0001; Imposition and Collection of Passenger Civil Aviation Security Service Fees. In accordance with the Aviation Transportation Security Act (ATSA) (49 U.S.C. 44940) and relevant TSA Regulations (49 CFR part 1510), TSA imposes a Passenger Civil Aviation Security Service Fee (September 11th Security Fee) on passenger air carriers and foreign air carriers (“air carriers”) on air transportation originating at airports in the United States. In December of 2013, 49 U.S.C. 44940 was amended. See section 601, Title A of the Bipartisan Budget Act of 2013 (Pub. L. 113-67 (Dec. 26, 2013)) (Budget Act). Changes to the underlying statute required amendments to 49 CFR part 1510, which were addressed through an Interim Final Rule (IFR) published in the Federal Register on June 20, 2014 (2014 IFR). See 79 FR 35462. The adjusted September 11th Security Fee now requires fees to be based on one-way trips rather than enplanements.

The September 11th Security Fee is used to help defray the costs of providing Federal services, including civil aviation security services. This information collection requires air carriers to submit to TSA the amount of September 11th Security Fees an air carrier has imposed, collected, refunded, and remitted. Air carriers are required to retain this information for a three-year rolling period. For instance, air carriers must keep the information collected during fiscal year 2011 until the expiration of fiscal year 2014.

TSA rules require air carriers to impose and collect the September 11th Security Fee and remit the amounts collected to TSA. See 49 CFR 1510.13. The regulation also requires air carriers to submit quarterly reports to TSA, indicating the amount of the fees (no more than $5.60 per one-way trip) imposed on, collected from, and refunded to passengers, and the amount remitted to TSA. See 49 CFR 1510.17.

As initially promulgated in 2001, 49 CFR 1510.15 requires each air carrier that collects security service fees from more than 50,000 passengers annually have an independent certified public accountant perform an annual independent audit of its security service fee activities and accounts. TSA made a decision in 2003 to conduct its own audits of air carriers (under the provisions of 49 CFR 1510.11), mitigating the need for the annual independent audit requirements. To that end, the independent audit requirements were suspended on January 23, 2003. See 68 FR 3192. While the independent audit requirements have been suspended, air carriers are still required to establish and maintain an accounting system to account for the security service fees imposed, collected, refunded and remitted. See 49 CFR 1510.15(a).

The Office of Management and Budget approved a revision to the collection to reflect changes resulting from basing the security service fee on enplanements to basing the fee on one-way trips. See ICR No. 201405-1652-001. That collection has been approved through January 2015. TSA is seeking renewal of this revised collection related to the requirement for air carriers to submit the quarterly reports to TSA, retain the information for a three-year rolling period, and provide to TSA upon request the information required for the quarterly reports or necessary for an independent audit.

TSA estimates that 173 total respondent air carriers will each spend approximately 1 hour to prepare and submit each quarterly report. TSA estimates that all respondents will incur a total of 692 hours (173 carriers * 4 quarterly reports * 1 hour per report) to satisfy the quarterly reporting requirements annually.

Should TSA reinstate the audit requirement, TSA estimates that 105 air carriers would be required to submit annual audits, which would require approximately 20 hours for preparation, for a total of 2,100 hours (105 carriers * 20 hours per audit) annually.

TSA estimates that all respondent air carriers would incur 2,792 hours (692 hours for quarterly reports and 2,100 hours for audits) annually to satisfy the quarterly report and audit requirements.

TSA estimates that the 173 air carriers will each incur an average cost of $363.96 annually to satisfy the quarterly reporting requirement. This estimate includes $291.00 in labor for preparation of each quarterly report (4 reports * $72.75 per hour, each quarterly report is estimated to take 1 hour to prepare), $71.00 in annual records storage related costs, and $1.96 for postage to submit the report (4 stamps at 49 cents each). TSA estimates an aggregate annual cost of $62,965.08 ($363.96 cost * 173 air carriers) for all air carriers to prepare, store, and submit quarterly reports and a cost of $188,895.24 for the three-year extension period requested.

Should TSA reinstate the annual audit requirement, TSA estimates that 105 air carriers would be required to submit annual audits and would incur an average cost of $3,074.50 per audit. This estimate includes $3,000.00 in labor for preparation of each audit (20 hours per report * $150.00 per hour), $71.00 in annual records storage related costs, and $3.50 for postage to submit the report. TSA estimates an aggregate annual cost of $322,822.50 ($3,074.50 cost * 105 air carries) for all air carriers to prepare, store, and summit the annual audit should the requirement be reinstated and $968,647.50 for the three-year extension period requested.

Dated: August 11, 2014.
Christina A. Walsh,
TSA Paperwork Reduction Act Officer, Office of Information Technology.

[FR Doc. 2014-19463 Filed 8-15-14; 8:45 am]

BILLING CODE 9110-05-P